DEPARTMENT OF ENERGY

Federal Energy Regulatory Commission

[Docket No. CP07-388-000]

Columbia Gas Transmission Corporation; Notice of Request Under Blanket Authorization

June 4, 2007.

Take notice that on May 21, 2007, and supplemented on June 1, 2007, Columbia Gas Transmission Corporation (Columbia), 1700 MacCorkle Avenue, Charleston, West Virginia 25314, filed in Docket No. CP07-388-000, a prior notice request pursuant to sections 157.205 and 157.208 of the Federal Energy Regulatory Commission's regulations under the Natural Gas Act for authorization to increase the maximum allowable operating pressure (MAOP) of three of its existing transmission pipelines, located in Guernsey County, Ohio, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Specifically, Columbia proposes to increase the MAOP on its Lines O-1582, consisting of 2.1 miles of 2- and 6-inch diameter pipeline, O-1441, consisting of 0.43 mile of 4- and 6-inch diameter pipeline, and a portion of O-323, consisting of 2.03 miles of 3-, 4-, and 8-inch diameter pipeline, from the current MAOP of 50 psig to a new MAOP of 99 psig and to operate the subject pipelines at the higher pressure. Columbia states that the proposed uprate creates a capacity of 0.9 MMcf/d. Columbia asserts that the increase of the MAOP will allow Columbia to maintain current firm contractual obligations, as well as improve the efficient use of these facilities by increasing their capacity potential via the higher operating pressures. Columbia does not propose any pipeline construction or replacement as a result of the proposed uprate.

Any questions regarding the application should be directed to Victoria J. Hamilton, Certificate Lead, Columbia Gas Transmission Corporation, P.O. Box 1273, Charleston, West Virginia 25325-1273, or call at (304) 357-2297.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E7-11458 Filed 6-13-07; 8:45 am]

BILLING CODE 6717-01-P